DEPARTMENT OF COMMERCE

National Oceanic and Atmospheric Administration

50 CFR Part 622

[I.D. 040703A]

RIN 0648-AN87

Fisheries of the South Atlantic; Pelagic Sargassum Habitat in the South Atlantic; Fishery Management Plan

AGENCY: National Marine Fisheries Service (NMFS), National Oceanic and Atmospheric Administration (NOAA), Commerce.

ACTION: Notice of availability of a revised fishery management plan for the pelagic Sargassum habitat of the South Atlantic Region (FMP); request for comments.

SUMMARY: The South Atlantic Fishery Management Council (SAFMC) has submitted the subject FMP for review, approval, and implementation by NMFS. The FMP would: establish the management unit for Sargassum and stock status criteria for that management unit, designate essential fish habitat (EFH) and EFH habitat areas of particular concern (EFH-HAPC) for Sargassum, and establish harvesting restrictions for Sargassum taken in or from the exclusive economic zone (EEZ) off the southern Atlantic states.

DATES: Written comments must be received on or before June 16, 2003.

ADDRESSES: Comments on the FMP, which includes an Environmental Impact Statement, an Initial Regulatory Flexibility Analysis, a Regulatory Impact Review, and a Social Impact Assessment/Fishery Impact Statement must be mailed to the Southeast Regional Office, NMFS, 9721 Executive Center Drive N., St. Petersburg, FL 33702. Comments may also be sent via fax to 727-522-5583. Comments will not be accepted if submitted via e-mail or Internet.

Requests for copies of the FMP should be sent to the South Atlantic Fishery Management Council, One Southpark Circle, Suite 306, Charleston, SC 29407-4699; Phone: 843-571-4366; fax: 843-769-4520; e-mail: safmc@safmc.net.

FOR FURTHER INFORMATION CONTACT: Dr. Steve Branstetter, 727-570-5305.

SUPPLEMENTARY INFORMATION: The Magnuson-Stevens Fishery Conservation and Management Act (Magnuson-Stevens Act), as amended by the Sustainable Fisheries Act, requires each Regional Fishery Management Council to submit any fishery management plan or amendment to NMFS for review and approval, disapproval, or partial approval. The Magnuson-Stevens Act also requires that NMFS, upon receiving a plan or amendment, publish a notice in the Federal Register stating that the plan or amendment is available for public review and comment.

Sargassum is an abundant brown algae that occurs near the surface in warm waters of the western North Atlantic. Most Sargassum drifts between 2° N. and 40° N. lat. and 30° W. long. and the western edge of the Gulf Stream. The static standing crop of Sargassum is estimated to be 4 to 11 million metric tons (mt) or roughly 9 to 24 billion lb. Sargassum supports a diverse assemblage of marine organisms, including over 100 species of fish, fungi, micro- and macro-epiphytes, at least 145 species of invertebrates, five species of sea turtles, and numerous marine birds. Sargassum creates an unusual situation in regards to fishery management. As plants that may increase their biomass as much as 10 percent per day, floating mats or rafts of Sargassum represent a highly renewable natural resource that can be harvested or fished. Sargassum vegetation is considered a “fish” under the Magnuson-Stevens Act, and the harvest or take of this natural resource could be managed under a fishery management plan. Additionally, these mats or rafts of Sargassum vegetation provide habitat and protection for numerous species of vertebrates and invertebrates, including threatened or endangered sea turtles. Recognizing the importance of Sargassum as habitat, the SAFMC previously designated Sargassum as EFH and as EFH-HAPC for snapper-grouper species and coastal migratory pelagic (mackerel) species.

The SAFMC is concerned about the impacts of commercial harvest of this important resource. Over a 22-year period (1976-1997), 203.2 mt (448,000 lb) of Sargassum were harvested off the southern Atlantic states. The SAFMC has developed this FMP to protect and manage Sargassum as a fishery resource and to conserve this resource as EFH off the U.S. Atlantic coast from the North Carolina/Virginia boundary through the east coast of Florida, including the Atlantic side of the Florida Keys. In analyzing the proposed actions and alternatives in the FMP, Sargassum is discussed as both a fishery resource and as habitat for other managed species. The reader is reminded that discussions of importance of Sargassum as EFH for other species, as designated in other FMPs, should not be confused with the SAFMC's designations of EFH for Sargassum as a fishery resource in this FMP.

The FMP would establish the management unit for Sargassum as the population of Sargassum occurring within the SAFMC's area of jurisdiction and within state waters of North Carolina, South Carolina, Georgia, and the east coast of Florida. Based on that management unit, the FMP would establish stock status criteria as the following: Maximum Sustainable Yield (MSY) would be designated as 100,000 mt (220,448,550 lb). This is the estimated static standing stock (carrying capacity) off North Carolina, the current area of commercial harvest. Optimum Yield (OY) would be designated as 2.268 mt (5,000 lb). This value represents the average harvest during the period 1990 through 1999. Overfishing would be defined as the rate of harvest which compromises the stock's ability to produce MSY. Overfishing would be determined by establishing a maximum fishing mortality threshold using a measure of the stock's intrinsic rate of increase (r) as a proxy for a fishing mortality rate at MSY, where “r” is estimated to be 9-18 units per year. This overfishing definition would be associated with an MSY of 456,250 to 912,500 mt (100,584,210 to 201,168,430 lb) per year, which is larger than the SAFMC's preferred alternative of 100,000 mt for MSY. The stock would be considered overfished if the stock was reduced below the minimum stock size threshold (MSST). MSST would be established as 25,000 mt (55,114,638 lb), which would be BMSY/2, where BMSY is defined as one-half the carrying capacity (MSY) of the harvest area.

In a broad interpretation of the EFH final rule (67 FR 2343, January 17, 2002), the SAFMC would designate EFH and EFH-HAPC as places/locations where Sargassum occurs in the SAFMC's area of jurisdiction, including state waters off North Carolina, South Carolina, Georgia, and the east coast of Florida, including the Gulf Stream where it occurs in the EEZ, and the water column from the surface to the sea floor.

To limit the impacts of fishing on Sargassum, which already is designated as EFH for snapper and grouper species and coastal migratory pelagic species in other FMPs, the FMP would establish the following harvesting restrictions: (1) prohibit all harvest and possession of Sargassum from the South Atlantic EEZ south of the latitude line representing the North Carolina/South Carolina border (34° N. latitude); (2) prohibit all harvest of Sargassum from the South Atlantic EEZ within 100 nautical miles of shore between the 34° N. latitude line and the latitude line representing the North Carolina/Virginia border; (3) allow the harvest of Sargassum from that portion of the South Atlantic EEZ that is greater than 100 nautical miles from shore between the 34° N. latitude line and the latitude line representing the North Carolina/Virginia border during the months of November through June; (4) establish an annual Total Allowable Catch (TAC) of 2.268 mt (5,000 lb) landed wet weight of Sargassum; (5) require that a NMFS-approved observer be present on each Sargassum harvesting trip; and (6) require that nets used to harvest Sargassum be constructed of 4-inch (10-cm) stretch mesh or larger fitted to a frame no larger than 4 ft (1.22 meters) by 6 ft (1.83 meters).

A proposed rule that would implement measures outlined in the FMP has been received from the SAFMC. In accordance with the Magnuson-Stevens Act, NMFS is evaluating the proposed rule to determine whether it is consistent with the FMP, the Magnuson-Stevens Act, and other applicable law. If that determination is affirmative, NMFS will publish the proposed rule in the Federal Register for public review and comment.

Comments received by June 16, 2003, whether specifically directed to the FMP or the proposed rule, will be considered by NMFS in its decision to approve, disapprove, or partially approve the FMP. Comments received after that date will not be considered by NMFS in this decision. All comments received by NMFS on the FMP or the proposed rule during their respective comment periods will be addressed in the preamble of the final rule.

Authority: 16 U.S.C. 1801 et seq.

Dated: April 11, 2003.
Richard W. Surdi,
Acting Office Director, Office of Sustainable Fisheries, National Marine Fisheries Service.

[FR Doc. 03-9490 Filed 4-16-03; 8:45 am]

BILLING CODE 3510-22-S